DEPARTMENT OF LABOR

Employment and Training Administration

[TA-W-55,407, et al.]

Delta Energy Systems, Inc., Formerly Known as ASCOM Energy Systems, Inc., Including Leased Workers of Randstad North America; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on August 17, 2004, applicable to workers of Delta Energy Systems, Inc., including leased workers of Randstad North America, Palm Coast, Florida. The notice was published in the Federal Register on September 8, 2004 (69 FR 54321).

At the request of the State agency, the Department reviewed the certification for workers of the subject firm. The workers are engaged in the production of power conversion products.

Information shows that as the result of a 2003 change in ownership, the correct name of the subject firm should read Delta Energy Systems, Inc., formerly known as Ascom Energy Systems, Inc.

New information shows that worker separations have occurred involving employees of the Palm Coast, Florida facility of Delta Energy Systems, formerly known as Ascom Energy Systems, Inc., operating at various locations in the states of Ohio, California and New Hampshire. These employees provided sales support function services for the production of power conversion products at the Palm Coast, Florida location of the subject firm.

Based on these findings, the Department is amending this certification to show that the company was formerly known as Ascom Energy Systems, Inc. and to include employees of the Palm Coast, Florida location of the subject firm operating at various locations in the states of Ohio, California and New Hampshire.

The intent of the Department's certification is to include all workers of Delta Energy Systems, Inc., formerly known as Ascom Energy Systems, Inc. who was adversely affected by increased imports.

The amended notice applicable to TA-W-55,407 is hereby issued as follows:

“All workers of Delta Energy Systems, Inc., formerly known as Ascom Energy Systems, Inc., Palm Coast, Florida, including leased workers of Randstad North America (TA-W-55,407), including employees of Delta Energy Systems, Inc., formerly known as Ascom Energy, Inc., Palm Coast, Florida operating at various locations in the state of Ohio (TA-W-55,407A), California (TA-W-55,407B) and New Hampshire (TA-W-55,407C), who became totally or partially separated from employment on or after July 14, 2003, through August 17, 2006, are eligible to apply for adjustment assistance under Section 223 of the Trade Act of 1974, and are also eligible to apply for alternative trade adjustment assistance under Section 246 of the Trade Act of 1074.”

Signed at Washington, DC this 30th day of September 2004.
Richard Church,
Certifying Officer, Division of Trade Adjustment Assistance.

[FR Doc. 04-22800 Filed 10-8-04; 8:45 am]

BILLING CODE 4510-30-P